NUCLEAR REGULATORY COMMISSION

[Docket No. 030-32990; License No. 47-25225-01; EA-00-118]

In the Matter of Bass Energy, Inc. Bruceton Mills, West Virginia 26525; Order Imposing Civil Monetary Penalty

I

Bass Energy, Inc. (Licensee) is the previous holder of Materials License No. 47-25225-01 originally issued by the Nuclear Regulatory Commission (NRC) on December 15, 1992, and amended on September 2, 1998. The License has subsequently been transferred to another entity. The license authorized Bass Energy, Inc. to possess and use sealed sources registered pursuant to 10 CFR 32.210 or an equivalent Agreement State regulation and contained in a Scan Technologies Model 3500 fixed gauging device.

II

An investigation of the Licensee's activities was initiated by the NRC Office of Investigations (OI) on November 3, 1999, and an NRC inspection conducted on September 28, 1999. The results of the investigation and inspection revealed that the licensee had not conducted its activities in full compliance with NRC requirements. A written Notice of Violation and Proposed Imposition of Civil Penalty (Notice) was served upon the Licensee by letter dated June 30, 2000. The Notice stated the nature of the violations, the provisions of the NRC's requirements that the Licensee violated, and the amount of the civil penalty proposed for the violations.

To date, the Licensee has not responded to the Notice or paid the civil penalty. Additionally, telephone calls were initiated on August 16,18, 25 and 30, and September 1, 2000 by Mr. Mark Lesser, Acting Deputy Director, Division of Nuclear Materials Safety, NRC, Region II, to Mr. Thomas, President of Bass Energy, Inc., and his attorney concerning Bass Energy's intent to respond to the Notice or pay the civil penalty. Mr. Thomas has declined to discuss the matter and his attorney has not returned Mr. Lesser's calls.

III

After consideration of the Licensee's failure to respond to the Notice and pay the proposed civil penalty, the NRC staff has determined, that the civil penalty in the amount of $8,800 for the violations described in the Notice should be imposed.

IV

In view of the foregoing and pursuant to Section 234 of the Atomic Energy Act of 1954, as amended (Act), 42 U.S.C. 2282, 10 CFR 2.201 and 10 CFR 2.205, It Is Hereby Ordered That:

(A) The Licensee pay a civil penalty in the amount of $8,800 within 30 days of the date of this Order, in accordance with NUREG/BR-0254. In addition, at the time of making payment, the Licensee shall submit a statement indicating when and by what method payment was made, to the Director, Office of Enforcement, U.S. Nuclear Regulatory Commission, One White Flint North, 11555 Rockville Pike, Rockville, MD 20852-2738, and

(B) The Licensee respond in writing to the Notice pursuant to the provisions of 10 CFR 2.201 within 30 days of the date of this Order addressing: (1) Admission or denial of the alleged violations, (2) the reasons for the violations if admitted, and if denied, the reasons why, (3) the corrective steps that have been taken and the results achieved, (4) the corrective steps that will be taken to avoid further violations, and (5) the date when full compliance will be achieved. This response shall also be addressed to the Director, Office of Enforcement, U.S. Nuclear Regulatory Commission.

The Licensee may request a hearing within 30 days of the date of this Order. Where good cause is shown, consideration will be given to extending the time to request a hearing. A request for extension of time must be made in writing to the Director, Office of Enforcement, U.S. Nuclear Regulatory Commission, Washington, DC 20555, and include a statement of good cause for the extension. A request for a hearing should be clearly marked as a “Request for an Enforcement Hearing” and shall be submitted to the Secretary, U.S. Nuclear Regulatory Commission, ATTN: Rulemakings and Adjudications Staff, Washington, DC 20555. Copies also shall be sent to the Director, Office of Enforcement, U.S. Nuclear Regulatory Commission, Washington, DC 20555, to the Assistant General Counsel for Materials Litigation and Enforcement at the same address, and to the Regional Administrator, NRC Region II, U.S. Nuclear Regulatory Commission, 61 Forsyth St., SW, Suite 23T85, Atlanta, GA 30303.

If a hearing is requested, the Commission will issue an Order designating the time and place of the hearing. If the Licensee fails to request a hearing within 30 days of the date of this Order (or if written approval of an extension of time in which to request a hearing has not been granted), the provisions of this Order shall be effective without further proceedings. If payment has not been made by that time, the matter may be referred to the Attorney General for collection.

In the event the Licensee requests a hearing as provided above, the issues to be considered at such hearing shall be:

(a) Whether the Licensee was in violation of the Commission's requirements as set forth in Part I of the Notice referenced in Section II above, and

(b) Whether, on the basis of such violation, this Order should be sustained.

Dated this 29th day of September 2000.
R. William Borchardt,
Director, Office of Enforcement.

[FR Doc. 00-26009 Filed 10-10-00; 8:45 am]

BILLING CODE 7590-01-P